DEPARTMENT OF VETERANS AFFAIRS

Privacy Act of 1974; Report of Matching Program

AGENCY: Department of Veterans Affairs.

ACTION: Notice of Computer Matching Program.

SUMMARY: The Department of Veterans Affairs (VA) provides notice that it intends to conduct a recurring computer-matching program matching Office of Personnel Management (OPM) records with VA pension and dependency and indemnity compensation (DIC) records. The purpose of this match is to identify beneficiaries who are receiving VA benefits and payment under the Civil Service Retirement Act or Federal Employees' Retirement System Act, and to adjust or terminate benefits, if appropriate.

DATES: The match will start no sooner than 30 days after publication of this notice in the Federal Register (FR), or 40 days after copies of this notice and the agreement of the parties are submitted to Congress and the Office of Management and Budget, whichever is later, and end not more than 18 months after the agreement is properly implemented by the parties. The involved agencies' Data Integrity Boards (DIB) may extend this match for 12 months provided the agencies certify to their DIBs, within 3 months of the ending date of the original match, that the matching program will be conducted without change and that the matching program has been conducted in compliance with the original matching program.

ADDRESSES: Written comments may be submitted through www.Regulations.gov; by mail or hand delivery to the Director, Regulations Management (02REG), Department of Veterans Affairs, 810 Vermont Ave. NW., Room 1068, Washington, DC 20420; or by fax (202) 273-9026. Copies of comments received will be available for public inspection in the Office of Regulation Policy Management, Room 10638, between the hours of 8:00 a.m. and 4:30 p.m., Monday through Friday (except holidays). Please call (202) 461-4902 for an appointment. In addition, during the comment period, comments may be viewed online through Federal Docket Management System (FDMS) at www.Regulations.gov.

FOR FURTHER INFORMATION CONTACT: Sharon Nicely, Pension Analyst, Pension and Fiduciary Service (21P), Department of Veterans Affairs, 810 Vermont Ave. NW., Washington, DC 20420, (202) 632-8863.

SUPPLEMENTARY INFORMATION: VA plans to match records of applicants and beneficiaries, including veterans and survivors, and their eligible dependent(s) who have applied for or who are receiving needs-based VA benefits with retirement annuity payment information maintained by OPM. VA will use this information to verify income information submitted by beneficiaries in VA's needs-based benefits programs and adjust VA benefit payments as prescribed by law. The proposed matching program will enable VA to ensure accurate reporting of income.

The legal authority to conduct this match is 38 U.S.C. 5106, which requires any Federal department or agency to provide VA such information as VA requests for the purposes of determining eligibility for benefits or verifying other information with respect to payment of benefits.

VA records involved in the match are in “Compensation, Pension, Education, and Vocational Rehabilitation Records—VA (58 VA 21/22/28),” a system of records that was first published at 41 FR 9294 (March 3, 1976), amended and republished in its entirety at 74 FR 29275 (June 19, 2009), and last amended at 75 FR 22187 (April 27, 2010). The routine use is number 39 regarding computer matches. The OPM records involved in the match are from the OPM Civil Service Retirement Pay File identified as OPM/Central-1, Civil Service Retirement and Insurance Records, published at 73 FR 15013 (March 20, 2008). The routine use is “I.”

In accordance with the Privacy Act, 5 U.S.C. 552a(o)(2) and (r), copies of the agreement are being sent to both Houses of Congress and to the Office of Management and Budget. This notice is provided in accordance with the provisions of the Privacy Act of 1974 as amended by Public Law 100-503.

Approved: March 26, 2013.
John R. Gingrich,
Chief of Staff, Department of Veterans Affairs.

[FR Doc. 2013-08532 Filed 4-10-13; 8:45 am]

BILLING CODE 8320-01-P